DEPARTMENT OF TRANSPORTATION

Federal Motor Carrier Safety Administration

[Docket No. FMCSA-2006-25652]

Agency Information Collection Activities; Request for Comments on a New Information Collection: Commercial Motor Vehicle Driver Risk Factor Study

AGENCY: Federal Motor Carrier Safety Administration (FMCSA), DOT.

ACTION: Notice and request for comments.

SUMMARY: The FMCSA invites comments on its plan to request the Office of Management and Budget's (OMB) approval of a new information collection (IC) associated with the agency's study to investigate commercial motor vehicle (CMV) driver risk factors. The study will be conducted by a research contractor. This IC will aid FMCSA in developing future safety initiatives by examining a wide array of driver and situational factors to determine if they are associated with increased or decreased crash involvement. This notice is required by the Paperwork Reduction Act of 1995.

DATES: Comments must be submitted on or before May 22, 2007.

ADDRESSES: You may submit comments identified by any of the following methods. Please identify your comments by the FMCSA Docket Number FMCSA-2007-25652.

• Web site: http://dms.dot.gov. Follow instructions for submitting comments to the Docket.

• Fax: 202-493-2251.

• Mail: U.S. Department of Transportation, Docket Management Facility, 400 Seventh Street, SW., Plaza level, Washington, DC 20590-0001.

• Hand Delivery: Plaza level of the Nassif, Building, 400 Seventh Street, SW., Washington, DC, between 9 a.m. and 5 p.m., e.t., Monday through Friday, except Federal holidays.

Docket: For access to the Docket Management System (DMS) to read background documents or comments received, go to http://dms.dot.gov at any time or to the plaza level of the Nassif Building, 400 Seventh Street, SW., Washington, DC, between 9 a.m. and 5 p.m., e.t., Monday through Friday, except Federal holidays. The DMS is available electronically 24 hours each day, 365 days each year. If you want notification of receipt of your comments, please include a self-addressed, stamped envelope, or postcard or print the acknowledgement page that appears after submitting comments on-line.

Privacy Act: Anyone is able to search the electronic form of all comments received into any of our dockets by the name of the individual submitting the comment (or signing the comment, if submitted on behalf of an association, business, labor union, etc.). You may review DOT's complete Privacy Act Statement in the Federal Register on April 11, 2000 (65 FR 19477), or you may visit http://dms.dot.gov.

All comments should reference Docket No. FMCSA-2006-25652. You may mail or hand deliver comments to the U.S. Department of Transportation, Dockets Management Facility, Room PL-401, 400 Seventh Street, SW., Washington, DC 20590; telefax comments to 202/493-2251; or submit electronically at http://dms.dot.gov. You may examine and copy all comments received at the above address between 9 a.m. and 5 p.m., e.t., Monday through Friday, except Federal holidays. If you desire your comment to be acknowledged, you must include a self-addressed stamped envelope or postcard or, if you submit your comments electronically, you may print the acknowledgment.

FOR FURTHER INFORMATION CONTACT: Mr. Albert Alvarez, Federal Motor Carrier Safety Administration, Office of Research and Analysis (MC-RRR), Federal Motor Carrier Safety Administration, 400 Virginia Avenue, SW., Washington, DC 20024. Telephone (202) 385-2387 or send an e-mail to albert.alvarez@fmcsa.dot.gov. Office hours are from 8 a.m. to 4 p.m., e.t., Monday through Friday, except Federal holidays.

SUPPLEMENTARY INFORMATION: Title: Commercial Motor Vehicle Driver Risk Factor Study.

OMB Control No: 2126-xxxx.

Type of Request: New Collection.

Respondents: Commercial motor vehicle drivers and motor carriers.

Estimated Number of Respondents: 700.

Estimated Time per Response: The estimated average burden per response is 20 minutes for telephone interviews; 30 minutes for paper/online questionnaires; 4 hours for in-person interviews, including psychological and perceptual testing, and medical examinations; and 30 minutes for motor carriers to locate and deliver respondents' driving records to researchers.

Frequency: This information will be a single, nonrecurring event.

Estimated Total Annual Burden: 1,124 hours [100 participating carriers × 2 hours to provide information to researchers + 100 non-response carriers × 30 minutes/60 minutes + 600 non-response CMV drivers × 5 minutes/60 minutes + 600 CMV driver telephone interviews × 20 minutes/60 minutes + 600 CMV driver paper/online questionnaires × 30 minutes/60 minutes + 72 in-person interviews, psychological and perceptual testing, and medical examinations × 4 hours + 20 carriers locating and delivering 72 drivers' driving records × 30 minutes per driver/60 minutes = 1,124 hours].

Background: The purpose of this study is to identify, verify, quantify, and prioritize commercial motor vehicle (CMV) driver risk factors. Primarily, these factors are personal, such as demographic characteristics, medical conditions, personality traits, and performance capabilities. Risk factors may also include work environmental conditions, such as carrier operations type, and compensation methods. The study will identify risk factors by linking the characteristics of individual drivers with their driving histories, especially the presence or absence of crashes or inspection violations.

Public Comments Invited: You are asked to comment on any aspect of this information collection, including: (1) Whether the proposed collection is necessary for the FMCSA's performance; (2) the accuracy of the estimated burden; (3) ways for the FMCSA to enhance the quality, usefulness, and clarity of the collected information; and (4) ways that the burden could be minimized without reducing the quality of the collected information. The agency will summarize and/or include your comments in the request for OMB's clearance of this information collection.

Issued on: March 13, 2007.
Rose A. McMurray,
Chief Safety Officer, Assistant Administrator.

[FR Doc. E7-5314 Filed 3-22-07; 8:45 am]

BILLING CODE 4910-EX-P